DEPARTMENT OF THE INTERIOR

Fish and Wildlife Service

Intent To Prepare a Comprehensive Conservation Plan (CCP) and Environmental Assessment (EA) for Little Sandy National Wildlife Refuge, Located in Wood County, TX

AGENCY: Department of the Interior.

ACTION: Notice of intent.

SUMMARY: This notice advises the public that the Fish and Wildlife Service, Southwest Region, intends to gather information necessary to prepare a CCP and EA for Little Sandy National Wildlife Refuge, pursuant to the National Environmental Policy Act and its implementing regulations. The Service is furnishing this notice in compliance with the National Wildlife Refuge System Administration Act of 1966, to achieve the following:

(1) Advise other agencies and the public of our intentions,

(2) Obtain suggestions and information on the scope of issues to include in the environmental document.

DATES: Special mailings, newspaper articles, postings, and media announcements will inform people of opportunities for written input throughout the CCP planning process. Refuge fact sheets will be made available at local libraries in the surrounding communities. This notice of intent/public scoping process will continue until January 1, 2007. Written comments submitted by mail or e-mail should be postmarked by that date to ensure consideration. Comments mailed after that date will be considered to the extent practical. Inquire at the following address for future dates of planning activities and due dates for comments.

ADDRESSES: Address comments and requests for more information to: Mark Williams, Refuge Manager, Little Sandy National Wildlife Refuge, P.O. Box 230, Karnack, Texas 75661; phone: 903-679-9144, fax: 903-679-9148. Information concerning this Refuge may also be found at the following Web site: http://southwest.fws.gov. Comments submitted via e-mail should be addressed to Tom Baca at Tom_Baca@fws.gov or Mark Williams at Mark_Williams@fws.gov. Our practice is to make comments, including names and addresses of respondents, available for public review during regular business hours. Individual respondents may request that we withhold their home address from the rulemaking record, which we will honor to the extent allowable by law.

FOR FURTHER INFORMATION CONTACT: Tom Baca, Chief, Division of Planning, P.O. Box 1306, Albuquerque, New Mexico 87103-1306; phone: 505-248-6631; fax: 505-248-6874; e-mail Tom_Baca@fws.gov.

SUPPLEMENTARY INFORMATION: The National Wildlife Refuge System Improvement Act of 1997 requires that all lands within the National Wildlife Refuge System (NWRS) are to be managed in accordance with an approved CCP. The CCP guides management decisions and identifies refuge goals, long-range objectives, and strategies for achieving refuge purposes. Each refuge in the NWRS has specific purposes for which it was established. Those purposes are used to develop and prioritize management goals and objectives within the NWRS mission and to guide which public uses will occur on a given refuge.

The planning process will consider many elements including wildlife and habitat management, habitat protection and acquisition, wilderness preservation, public recreational activities, and cultural resource protection. Public input into the planning process is essential. The planning process is a way for the Service and the public to evaluate refuge management goals and objectives for the best possible conservation efforts of this important wildlife habitat. Concurrently, this process is also providing for wildlife-dependent recreation opportunities that are compatible with each refuge's establishing purposes and the mission of the NWRS.

The Little Sandy National Wildlife Refuge is a 3,802 acre, permanent, “non development” easement located along the Sabine River in East Texas. The special interest in land was received by the United States for management as a unit of the National Wildlife Refuge System in December 1986. The interest in land was donated by the Little Sandy Hunting and Fishing Club in Wood County, Texas. An Environmental Assessment was completed in December 1986 describing the affected environment and the purposes of establishment of the Little Sandy National Wildlife Refuge. By acceptance of the easement donation on behalf of the United States, the Service was acting under the authority of the Migratory Bird Conservation Act of 1929 to protect and preserve habitat for waterfowl giving the Refuge its primary purposes. No funding for acquisition was required. The site would not be actively managed by the Service, and the use of the site as a hunting club by the Little Sandy Hunting and Fishing Club would be maintained into perpetuity. However, the “non development” easement prohibits the conversion of these lands to other land practices, such as timber harvest or alteration of wetlands notwithstanding specific authorization by Congress. Although active habitat manipulation (i.e., restoration, maintenance, or enhancement of habitat) is limited, the Service is interested in engaging with the Little Sandy Hunt Club and other conservation partners in the formation of goals, objectives, and strategies leading to a better understanding of the full range of habitat and wildlife resources present on the Refuge. The Service is cognizant of its responsibility to request authorization from the Little Sandy Hunt Club prior to any engagement of on site activities.

The Refuge contains old growth bottomland hardwood habitat and associated wetlands that support wintering mallards (Anas platyrhynchos) and wintering and breeding wood ducks (Aix sponsa). The area also supports a large number of other wildlife and plant species, including the threatened American alligator (Alligator mississippiensis) and the once endangered bald eagle (Haliaeetus leucocephalus).

The CCP will provide other agencies and the public with a clear understanding of the desired conditions for the Refuge and how the Service will implement management strategies for the conservation and development of these natural resources.

The Service, through this notice of intent, formally begins the comprehensive conservation planning process for Little Sandy National Wildlife Refuge. The Service requests input on any and all issues concerning the Service's responsibilities to monitor and understand the full spectrum of habitat and wildlife resources present on the Refuge. Because the Refuge is an easement overlay upon private hunt club lands, the comprehensive plan to be developed will likely carry only a minimum of objectives and strategies pertaining to resource educational and interpretive opportunities that could be considered in partnership with the Little Sandy Hunt Club and/or other interested partners. The CCP is also likely to outline any issues regarding the protection of threatened and/or endangered species, migratory birds, native species, and their habitats.

Comments received will be used as part of the planning process. Individual comments will not be referenced in our reports or directly responded to. The Service will continue to solicit information from the public and other agencies via open houses, meetings, and written comments. Special mailings, newspaper releases, and announcements will continue to inform people of the time and place of opportunities for further input to the CCP.

Review of this project will be conducted in accordance with the National Environmental Policy Act of 1968, as amended (42 U.S.C 4321 et seq.), NEPA Regulations (40 CFR parts 1500-1508) found at http://www.thecre.com/fedlaw/default.htm, other appropriate Federal laws, and Service policies and procedures for compliance with those regulations.

The Service will prepare an Environmental Assessment (EA) in accordance with procedures for implementing NEPA found in the Department of the Interior Manual (DM Part 516, Chap. 6). The decision to prepare an Environmental Impact Statement instead of an EA would be contingent upon the complexity of issues following the scoping phase of the CCP process.

We estimate that the draft environmental documents will be available in fall 2007 for public review and comment.

Authority: This notice is published under the authority of the National Wildlife Refuge System Improvement Act of 1997, Public Law 105-57.

Dated: November 7, 2006.
Christopher T. Jones,
Acting Regional Director, U.S. Fish and Wildlife Service, Albuquerque, New Mexico.

Editorial Note: This document was received at the Office of the Federal Register on August 13, 2007.

[FR Doc. E7-16128 Filed 8-15-07; 8:45 am]

BILLING CODE 4310-55-P